SOCIAL SECURITY ADMINISTRATION

President's Commission To Strengthen Social Security

AGENCY: Social Security Administration (SSA).

ACTION: Announcement of meeting location and time change.

DATES: June 11, 2001, 10 a.m.- 4 p.m.

ADDRESSES: Willard Inter-Continental Hotel, 1401 Pennsylvania Avenue, NW., Washington, DC 20004, (202) 628-9100.

SUPPLEMENTARY INFORMATION: The May 29, 2001 Federal Register notice (FR Doc. 01-13486, 66 FR 29200) announcing the June 11 meeting of the President's Commission to Strengthen Social Security did not include a meeting location. The purpose of this announcement is to provide the meeting location and to note that the meeting will end at 4 p.m. instead of 6 p.m., as previously reported.

The meeting will be open to the public at 11 a.m. The Commission will break for lunch at Noon, and the public meeting will reconvene at 1 p.m. and continue through 4 p.m. In accordance with the Government in the Sunshine Act, 5 U.S.C. 552b(c), the meeting will be closed to the public from 10 a.m. to 11 a.m. to conduct housekeeping business relating solely to Federal personnel rules and practices and other administrative matters.

Dated: June 4, 2001.
Larry G. Massanari,
Acting Commissioner of Social Security.

[FR Doc. 01-14527 Filed 6-5-01; 4:08 pm]

BILLING CODE 4191-02-U